DEPARTMENT OF TRANSPORTATION

Federal Highway Administration

Rescinding the Notice of Intent for an Environmental Impact Statement (EIS): Harrison and Stone Counties, MS

AGENCY: Federal Highway Administration, DOT.

ACTION: Rescind Notice of Intent to prepare an EIS.

SUMMARY: This notice rescinds the Notice of Intent for preparing an Environmental Impact Statement (EIS) for a proposed highway to provide a connection between U.S. Highway 49 near the town of Star to Interstate 20 near the Interchange with State Route 475 in the City of Pearl, Rankin County, Mississippi. The original Notice of Intent for this EIS process was published in the Federal Register on May 22, 2009.

FOR FURTHER INFORMATION CONTACT: Claiborne Barnwell, Project Development Team Leader, Federal Highway Administration, Mississippi Division, 100 West Capitol Street, Suite 1026, Jackson, Mississippi 39269, Telephone: (601) 965-4217.

SUPPLEMENTARY INFORMATION:

Background

The Federal Highway Administration (FHWA) in cooperation with the Mississippi Department of Transportation (MDOT) initiated an Environmental Impact Statement (EIS) with a Notice of Intent May 22, 2009, to provide a connector road, to be built to interstate standards, between U.S. Highway 49 and Interstate 20.

Due to funding constraints this Notice of Intent is rescinded.

Andrew H. Hughes,
Division Administrator, Mississippi, Federal Highway Administration, Jackson, Mississippi.

[FR Doc. 2010-30022 Filed 11-29-10; 8:45 am]

BILLING CODE M